DEPARTMENT OF COMMERCE

National Oceanic and Atmospheric Administration

[RTID 0648-XC238]

Endangered Species; File No. 25818

AGENCY: National Marine Fisheries Service (NMFS), National Oceanic and Atmospheric Administration (NOAA), Commerce.

ACTION: Notice; receipt of application.

SUMMARY: Notice is hereby given that Paul Jobsis, Ph.D., University of the Virgin Islands, Center for Marine and Environmental Studies, 2 John Brewers Bay, St. Thomas, VI 00802, has applied in due form for a permit to take green (Chelonia mydas), hawksbill (Eretmochelys imbricata), and loggerhead (Caretta caretta) sea turtles for purposes of scientific research.

DATES: Written, telefaxed, or email comments must be received on or before September 7, 2022.

ADDRESSES: The application and related documents are available for review by selecting “Records Open for Public Comment” from the “Features” box on the Applications and Permits for Protected Species (APPS) home page, https://apps.nmfs.noaa.gov, and then selecting File No. 25818 from the list of available applications. These documents are also available upon written request via email to NMFS.Pr1Comments@noaa.gov.

Written comments on this application should be submitted via email to NMFS.Pr1Comments@noaa.gov. Please include File No. 25818 in the subject line of the email comment.

Those individuals requesting a public hearing should submit a written request via email to NMFS.Pr1Comments@noaa.gov. The request should set forth the specific reasons why a hearing on this application would be appropriate.

FOR FURTHER INFORMATION CONTACT: Erin Markin, Ph.D., or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to continue long-term studies on juvenile, subadult, and adult sea turtle populations in the U.S. Virgin Islands. Researchers would assess habitat use, foraging behaviors, anthropogenic impacts, predator and prey interactions, social interactions, gender ratios, and diet. Up to 140 green, 70 hawksbill, and five loggerhead sea turtles annually may be captured by hand or tangle net, tagged (acoustic, passive integrated transponder, flipper), marked, measured, have cloacal temperature measured, biologically sampled (blood, fecal, skin), tracked, recaptured for gear removal, weighed, and photographed/videoed, prior to release. A subset of sea turtles may receive either a satellite tag (epoxy attachment) or an animal-borne camera (suction-cup attachment) and an acoustic tag (drill carapace attachment), prior to release. The permit would be valid for 10 years.

Dated: August 3, 2022.
Julia M. Harrison,
Chief, Permits and Conservation Division, Office of Protected Resources, National Marine Fisheries Service.

[FR Doc. 2022-16952 Filed 8-5-22; 8:45 am]

BILLING CODE 3510-22-P